DEPARTMENT OF ENERGY

Environmental Management Site-Specific Advisory Board, Hanford; Meeting

AGENCY: Office of Environmental Management, Department of Energy.

ACTION: Notice of open meeting.

SUMMARY: This notice announces an in-person/virtual hybrid open meeting of the Environmental Management Site-Specific Advisory Board (EM SSAB), Hanford. The Federal Advisory Committee Act requires that public notice of this meeting be announced in the Federal Register.

DATES: Wednesday, January 25, 2023; 1 p.m.-4 p.m. and 5 p.m.-8 p.m. PT; Thursday, January 26, 2023; 9 a.m.-4 p.m. PT.

ADDRESSES: This hybrid meeting will be in-person at the Holiday Inn Richland on the River (address below) and virtually. To receive the virtual access information and call-in number, please contact the Federal Coordinator, Gary Younger, at the telephone number or email listed below at least five days prior to the meeting.

The meeting will be held, strictly following COVID-19 precautionary measures, at: Holiday Inn Richland on the River, 802 George Washington Way, Richland, WA 99352.

Attendees should check with the Federal Coordinator (below) for any meeting format changes due to COVID-19 protocols.

FOR FURTHER INFORMATION CONTACT: Gary Younger, Federal Coordinator, U.S. Department of Energy, Hanford Office of Communications, Richland Operations Office, P.O. Box 550, Richland, WA 99354; Phone: (509) 372-0923; or email: gary.younger@rl.doe.gov.

SUPPLEMENTARY INFORMATION:

Purpose of the Board: The purpose of the Board is to make recommendations to DOE-EM and site management in the areas of environmental restoration, waste management, and related activities.

Tentative Agenda:

• Tri-Party Agreement Agencies' Updates

• Board Subcommittee Reports

• Discussion of Board Business

• Election of Board Officers

Public Participation: The meeting is open to the public. The EM SSAB, Hanford, welcomes the attendance of the public at its advisory committee meetings and will make every effort to accommodate persons with physical disabilities or special needs. If you require special accommodations due to a disability, please contact Gary Younger at least seven days in advance of the meeting at the telephone number listed above. Written statements may be filed with the Board either before or within five business days after the meeting. Individuals who wish to make oral statements pertaining to agenda items should contact Gary Younger. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available at the following website: http://www.hanford.gov/page.cfm/hab/FullBoardMeetingInformation.

Signed in Washington, DC, on December 27, 2022.
LaTanya Butler,
Deputy Committee Management Officer.

[FR Doc. 2022-28502 Filed 12-30-22; 8:45 am]

BILLING CODE 6450-01-P